DEPARTMENT OF THE INTERIOR

Bureau of Land Management

[OR-957-00-1420-BJ: GP05-0179]

Filing of Plats of Survey: Oregon/Washington

AGENCY: Bureau of Land Management.

ACTION: Notice.

SUMMARY: The plats of survey of the following described lands were officially filed in the Oregon State Office, Portland, Oregon, on May 16, 2005.

Willamette Meridian

Washington

T. 30 N., R. 33 E., accepted March 15, 2005.

T. 31 N., R. 33 E., accepted March 15, 2005.

T. 21 N., R. 13 W., accepted May 2, 2005.

The plats of survey of the following described lands were officially filed in the Oregon State Office, Portland, Oregon, on July 6, 2005.

Willamette Meridian

Oregon

T. 2 N., R. 33 E., accepted, June 1, 2005.

T. 32 S., R. 14 W., accepted, June 9, 2005.

T. 32 S., R. 1 W., accepted , June 14, 2005.

A copy of the plats may be obtained from the Public Room at the Oregon State Office, Bureau of Land Management, 333 SW., 1st Avenue, Portland, Oregon 97204, upon required payment. A person or party who wishes to protest against a survey must file a notice that they wish to protest. (at the above address) with the State Director, Bureau of Land Management, Portland, Oregon.

FOR FURTHER INFORMATION CONTACT: Chief, Branch of Geographic Sciences, Bureau of Land Management, (333 SW., 1st Avenue) PO Box 2965, Portland, Oregon 97208.

Dated: July 28, 2005.
Robert D. DeViney, Jr.,
Chief, Branch of Lands and Minerals Resources.

[FR Doc. 05-15974 Filed 8-11-05; 8:45 am]

BILLING CODE 4310-33-P